DEPARTMENT OF JUSTICE

Antitrust Division

Notice Pursuant to the National Cooperative Research and Production Act of 1993—Medical Technology Enterprise Consortium

Notice is hereby given that, on March 15, 2016, pursuant to Section 6(a) of the National Cooperative Research and Production Act of 1993, 15 U.S.C. 4301 et seq. (“the Act”), the Medical Technology Enterprise Consortium (“MTEC”) has filed written notifications simultaneously with the Attorney General and the Federal Trade Commission disclosing changes in its membership and nature and objectives. The notifications were filed for the purpose of extending the Act's provisions limiting the recovery of antitrust plaintiffs to actual damages under specified circumstances. Specifically, Agile Immersive, Arlington, VA; Armed Forces Institute for Regenerative Medicine (AFIRM), Winston-Salem, NC; Articulate Biomedical, LLC, Ithaca, NY; BioMed SA, San Antonio, TX; Cedars-Sinai Medical Center, Los Angeles, CA; CUBRC, Inc., Buffalo, NY; Eagle Applied Sciences, LLC, San Antonio, TX; East Carolina University, Greenville, NC; FirstString Research, Inc., Mt. Pleasant, SC; Gateway Biotechnology, Inc., Kent, OH; General Electric Company, Global Research, Niskayuna, NY; Georgia Tech Research Corporation, Atlanta, GA; IDIQ, Inc., Fallbrook, CA; InnoVital Systems, Inc., Beltsville, MD; Johns Hopkins University, Baltimore, MD; and Kestrel Corporation, Albuquerque, NM, Lovelace Biomedical and Environmental Research Institute, Albuquerque, NM; McAllister & Quinn, LLC, Washington, DC; Medical University of South Carolina, Charleston, SC; MedPro Technologies, Inc., San Antonio, TX; Michigan Technological University, Houghton, MI; MicroCures, Inc., Santa Cruz, CA; MiMedx Group, Inc., Marietta, GA; New York Institute of Technology, Old Westbury, NY; North American Rescue, LLC, Greer, SC; Otologic Pharmaceutics, Inc., Oklahoma City, OK; Pertexa Healthcare Technologies, Inc., Ridgecrest, CA; Qool Therapeutics, Inc., Menlo Park, CA; RegenMed Development Organization, Winston-Salem, NC; Resiliency Technologies, Inc., Spartanburg, SC; Second Sight Medical Products, Inc., Sylmar, CA; Southwest Research Institute, San Antonio, TX; Techline Technologies, Inc., Willow Grove, PA; The Conafay Group, Washington, DC; The General Hospital Corporation dba Massachusetts General Hospital, Boston, MA; The Henry M. Jackson Foundation for the Advancement of Military Medicine, Bethesda, MD; The Ohio State University, Columbus, OH; The Research Foundation for the State University of New York (SUNY), Syracuse, NY; The University of Texas at Arlington Research Institute (UTARI), Arlington, TX; Trideum Biosciences, Frederick, MD; Triton Systems, Inc., Chelmsford, MA; University of Illinois at Chicago, Chicago, IL; University of Miami, Coral Gables, FL; University of Michigan, Ann Arbor, MI; University of Nebraska Medical Center, Omaha, NE; University of Pittsburgh, Pittsburgh, PA; University of South Carolina, Columbia, SC; University of Virginia, Charlottesville, VA; Vanderbilt University School of Engineering, Nashville, TN; Wake Forest University Health Sciences, Winston-Salem, NC; and Weinberg Medical Physics, LLC, North Bethesda, MD, have been added as parties to this venture.

Also, Biohealth Innovation, Inc., Rockville, MD; Center for Integration of Medicine and Innovative Technology (CIMIT), Boston, MA; Florida Atlantic University, Boca Raton, FL; Indiana University, Bloomington, IN; Institute for Systems Biology, Seattle, WA; Jade Therapeutics, Inc., Salt Lake City, UT; Johns Hopkins Technology Transfer, Baltimore, MD; KAI Research, Inc. (KAI), Rockville, MD; Human Effects Modeling, Advanced Technology, Inc., L-3 Communications, San Diego, CA; Maryland Technology Development Corp. (TEDCO), Columbia, MD; and Institute for Collaborative Biotechnologies, University of California, Santa Barbara, CA, have withdrawn as parties to this venture.

The general areas of MTEC's planned activity are to: (a) enter into an Other Transactions Agreement with the U.S. Army Medical Research and Materiel Command (the Government) to fund certain research, development, and commercialization efforts conducted in partnership with the Government, the Consortium, and Consortium Members that enhance the medical knowledge and life cycle management of the medical program, and enable the Government to better protect, treat, and optimize Warfighter health and performance across the full spectrum of operations; (b) participate in establishing sound technical and programmatic performance goals based on the needs and requirements of the Government's Technology Objectives and other mission requirements; (c) create programs and secure funding; (d) provide a unified voice that effectively articulates the strategically important role military medical technologies play in current and future military operations; and (e) maximize use of Government and member capabilities and resources for developing critical processes, procedures, drugs, vaccines, and devices that can be transitioned and commercialized for both military and civilian use.

No other changes have been made in either the membership or planned activity of the group research project. Membership in this group research project remains open, and MTEC intends to file additional written notifications disclosing all changes in membership.

On May 9, 2014, MTEC filed its original notification pursuant to Section 6(a) of the Act. The Department of Justice published a notice in the Federal Register pursuant to Section 6(b) of the Act on June 9, 2014 (79 FR 32999).

Patricia A. Brink,
Director of Civil Enforcement, Antitrust Division.

[FR Doc. 2016-08574 Filed 4-13-16; 8:45 am]

BILLING CODE P